DEPARTMENT OF THE INTERIOR

Fish and Wildlife Service

Sonoran Desert Conservation Plan (SDCP) for Pima County, Arizona

AGENCY: U.S. Fish and Wildlife Service, Department of the Interior.

ACTION: Notice of Intent to extend the public comment period on scoping issues for preparation of an Environmental Impact Statement (EIS) related to the SDCP.

SUMMARY: On September 7, 2000, pursuant to the National Environmental Policy Act (NEPA), the public was advised that the U.S. Fish and Wildlife Service (Service) intends to prepare an EIS to evaluate the impacts of and alternatives for the possible issuing of an incidental take permit, pursuant to section 10(a)(1)(B) of the Endangered Species Act of 1973, as amended (Act), to Pima County. At public scoping meetings held on October 4, 2000 in Tucson, Arizona, the public requested additional time in which to respond. This notice provides an extension of 30 days to the public comment period.

DATES AND ADDRESSES: Written comments on conservation alternatives and issues to be addressed in the EIS are now requested by Friday, November 24, 2000, and should be sent to Mr. David Harlow, Field Supervisor, U.S. Fish and Wildlife Service, 2321 West Royal Palm Road, Suite 103, Phoenix, AZ, 85021 at 602/640-2720. For the information of the general public, names and addresses of anyone who comments may and can be disclosed under the Freedom of Information Act.

FOR FURTHER INFORMATION ON THE EIS, CONTACT: Ms. Sherry Barrett, Assistant Field Supervisor, Tucson Suboffice, U.S. Fish and Wildlife Service, 300 West Congress, Room 6J, Tucson, AZ, 85701, at 520/670-4617, or Mr. David Harlow, Field Supervisor, Arizona State Office, U.S. Fish and Wildlife Service, 2321 West Royal Palm Road, Suite 103, Phoenix, AZ, 85021 at 602/640-2720. FOR FURTHER INFORMATION ON THE SDCP, CONTACT: Mr. Paul Fromer, RECON, 1927 Fifth Avenue, Suite 200, San Diego, California 92101-2358 at 619/308-9333. Information on the purpose, membership, meeting schedules, and documents associated with the SDCP may be obtained on the Internet at http://www.co.pima.az.us/cmo/sdcp/index.html.

SUPPLEMENTARY INFORMATION: This notice advises the public that the Service intends to extend the public scoping period through November 24, 2000, for gathering of information necessary to determine impacts and formulate alternatives for an EIS related to the potential issuance of an incidental take permit to Pima County, Arizona, and the development and implementation of the SDCP, which will provide measures to minimize and mitigate the effects of the incidental take of federally listed species.

Background: Following is a preliminary list for public scoping comments of probable environmental resources, effects, and issues associated with the proposed action. The public is requested to add items to this list, make suggestions for possible alternative actions regarding these resources, and/or comment on how these resources may be impacted by the development, implementation, and potential issuance of a permit for the Sonoran Desert Conservation Plan.

Biological resources, including listed species

Urban land uses, including residential, commercial, and industrial development

Transportation

Water resources, including hydrology and water quality

Agriculture

Air resources

Cultural and historical resources

Recreation

Ranching practices and livestock grazing

Mineral resources

Utility rights-of-way

Fire management

Social and economic resources

Environmental justice

Comments and suggestions are invited from all interested parties to ensure that a range of issues and alternatives related to the proposed action are identified. The review of this project will be conducted according to the requirements of the National Environmental Policy Act of 1969, as amended (42 U.S.C. 4321 et seq.), National Environmental Policy Act Regulations (40 CFR 1500-1508), and other appropriate Federal laws, regulations, policies and guidance.

Related Project Documentation—It is anticipated that the EIS process will make full use (including incorporation by reference, as appropriate, pursuant to NEPA) of documents prepared by Pima County and other entities regarding the environmental and socioeconomic issues in the project area, copies of which will be available for public inspection at the Pima County Administrator's Office, 130 West Congress, 10th floor, Tucson AZ 85701.

After the environmental review is completed, the Service will publish a notice of availability and a request for comment on the draft EIS and Pima County's permit application, which will include the SDCP.

The draft EIS is expected to be completed by December, 2002.

Nancy M. Kaufman,
Regional Director, Southwest Region, Albuquerque, New Mexico.

[FR Doc. 00-27050 Filed 10-19-00; 8:45 am]

BILLING CODE 4310-94-U